ENVIRONMENTAL PROTECTION AGENCY

Agency Information Collection Activities OMB Responses

AGENCY: Environmental Protection Agency (EPA).

ACTION: Notice.

SUMMARY: This document announces the Office of Management and Budget's (OMB) responses to Agency Clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Rick Westlund (202) 566-1682, or e-mail at westlund.rick@epa.gov and please refer to the appropriate EPA Information Collection Request (ICR) Number.

SUPPLEMENTARY INFORMATION:

OMB Responses to Agency Clearance Requests

OMB Approvals

EPA ICR Number 1687.07; NESHAP for Aerospace Manufacturing and Rework (Renewal); in 40 CFR part 63, subpart GG; was approved 11/08/2007; OMB Number 2060-0314; expires 11/30/2010.

EPA ICR Number 1442.19; Land Disposal Restrictions (Renewal); in 40 CFR part 268; was approved 11/09/2007; OMB Number 2050-0085; expires 11/30/2010.

EPA ICR Number 0976.13; The 2007 Hazardous Waste Report (Renewal); in 40 CFR 270.30, 40 CFR 262.40, 40 CFR 262.40(b), 40 CFR 262.41, 40 CFR 264.75, and 40 CFR 265.75; was approved 11/15/2007; OMB Number 2050-0024; expires 11/30/2009.

EPA ICR Number 0616.09; Compliance Requirement for Child Resistant Packaging (Renewal); in 40 CFR part 157; was approved 11/15/2007; OMB Number 2070-0052; expires 11/30/2010.

EPA ICR Number 1903.02; 2007 National Survey of Local Emergency Planning Committees (Reinstatement); was approved 11/21/2007; OMB Number 2050-0162; expires 11/30/2010.

EPA ICR Number 1591.18; Regulation of Fuels and Fuel Additives: Modification of Anti-Dumping Baselines for Gasoline Produced or Imported for Use in Hawaii, Alaska and U.S. Territories (Final Rule); in 40 CFR 80.93(d); was approved 11/27/2007; OMB Number 2060-0277; expires 12/31/2007.

EPA ICR Number 1250.08; Request for Contractor Access to TSCA Confidential Business Information (CBI) (Renewal); was approved 11/28/2007; OMB Number 2070-0075; expires 11/30/2010.

Short-Term Approval

EPA ICR Number 1748.04; Annual Reporting form for State Small Business Stationary source technical and environmental compliance assistance program (SBTCP); short-term extension was approved by OMB on 11/26/2007; OMB Number 2060-0337; expires 01/31/2008.

EPA ICR Number 2020.02; Federal Implementation Plans under the Clean Air Act for Indian Reservations in Idaho, Oregon, and Washington (Final Rule); in 40 CFR part 49, subpart M; short-term extension was approved by OMB on 11/28/2007; OMB Number 2060-0558; expires 02/29/2008.

Comment Filed

EPA ICR Number 2266.01; National Volatile Organic Compound (VOC) Emission Standards for Aerosol Coatings (Proposed Rule); OMB filed comments on 11/15/2007.

EPA ICR Number 2267.01; NESHAP for Iron and Steel Foundry Area Sources (Proposed Rule); OMB filed comments on 11/30/2007.

Withdrawn

EPA ICR Number 2028.01; OMB Number 2060-0551; NESHAP for Industrial, Commercial, and Institutional Boilers and Process Heaters (40 CFR part 63, subpart DDDDD) (Renewal) was withdrawn by Agency on 12/06/2007.

Dated: December 10, 2007.
Sara Hisel-McCoy,
Director, Collection Strategies Division.

[FR Doc. E7-24350 Filed 12-14-07; 8:45 am]

BILLING CODE 6560-50-P